ENVIRONMENTAL PROTECTION AGENCY

[FRL OPRM-FAD-206]

Environmental Impact Statements; Notice of Availability

Responsible Agency: Office of Federal Activities, General Information 202-993-3272 or https://www.epa.gov/nepa.

Weekly receipt of Environmental Impact Statements (EIS)

Filed January 12, 2026 10 a.m. EST Through January 16, 2026 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250185, Draft Supplement, FERC, OR, Draft Supplemental Environmental Impact Statement for Hydropower License for the Hells Canyon Hydroelectric Project, Comment Period Ends: 03/02/2026, Contact: Office of External Affairs 866-208-3372.

EIS No. 20250186, Draft, USACE, MO, Lower Missouri River Flood Risk and Resiliency Comprehensive Study & Integrated Programmatic Environmental Impact Statement, Comment Period Ends: 03/09/2026, Contact: Dave Crane 402-995-2676.

EIS No. 20250187, Final, USFS, AK, South Revilla Integrated Resource Project, Comment Period Ends: 03/09/2026, Contact: Cathy Tighe 907-228-4134.

EIS No. 20250188, Final, BLM, AL, ADOPTION—Warrior Met Coal Mines, Contact: Allison Travers 202-501-9341.

The Bureau of Land Management (BLM) has adopted the Bureau of Land Management's Final EIS No. 20250131 filed 09/08/2025 with the Environmental Protection Agency. The BLM was a cooperating agency on this project. Therefore, republication of the document is not necessary.

EIS No. 20250189, Draft Supplement, USCG, MARAD, TX, Blue Water Offshore Port Deepwater Port Application, Comment Period Ends: 03/09/2026, Contact: Dr. Efrain Lopez 202-366-9761.

EIS No. 20250190, Draft, FHWA, MD, Chesapeake Bay Crossing Study Tier 2 EIS, Comment Period Ends: 03/20/2026, Contact: Alexander Bienko 410-779-7148.

EIS No. 20250191, Final, NRCS, KS, Rattlesnake Creek Watershed Plan-EIS, Review Period Ends: 02/23/2026, Contact: Dean Krehbiel 785-309-6093.

Amended Notice

EIS No. 20250167, Draft Supplement, NHTSA, REG, Draft Supplemental Environmental Impact Statement Safer Affordable Fuel-Efficient (SAFE) Vehicles Rule III for Model Years 2022 to 2031 Passenger Cars and Light Trucks, Comment Period Ends: 02/04/2026, Contact: Joseph Bayer 888-327-4236. Revision to FR Notice Published 12/12/2025; Extending the Comment Period from 01/20/2026 to 02/04/2026.

Dated: January 21, 2026.
Nancy Abrams,
Deputy Director, Federal Activities Division.

[FR Doc. 2026-01267 Filed 1-22-26; 8:45 am]

BILLING CODE 6560-50-P